DEPARTMENT OF THE INTERIOR

Bureau of Land Management

[LLNM920000 L13100000.PP0000 212L1109AF]

Notice of Proposed Reinstatement of Terminated Oil and Gas Leases OKNM 123551, OKNM 129741, OKNM 134913, OKNM 121968, Oklahoma

AGENCY: Bureau of Land Management, Interior.

ACTION: Notice.

SUMMARY: In accordance with the Mineral Leasing Act of 1920, as amended, Bevo Production Company (OKNM 123551), Red Dirt Energy, LLC (OKNM 129741), American Energy-Woodford, LLC (OKNM 134913), and Templar Energy, LLC (OKNM 121968) timely filed a petition for reinstatement of competitive oil and gas leases OKNM 123551 in Blaine County, Oklahoma, OKNM 129741 in Woods County, Oklahoma, OKNM 134913 in Payne County, Oklahoma, and OKNM 121968 in Roger Mills County, Oklahoma. The lessees paid the required rentals accruing from the date of termination. No leases were issued that affect these lands. The Bureau of Land Management (BLM) proposes to reinstate these leases.

FOR FURTHER INFORMATION CONTACT: Julieann Serrano, Supervisory Land Law Examiner, Branch of Adjudication, Bureau of Land Management New Mexico State Office, 301 Dinosaur Trail, Santa Fe, New Mexico 87508, (505) 954-2149, jserrano@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessees agree to new lease terms for rentals and royalties of $10 per acre, or fraction thereof, per year, and 16-2/3 percent, respectively. The lessees agree to additional or amended stipulations. The lessee paid the $500 administration fee for the reinstatement of the lease and the $159 cost for publishing this Notice.

The lessee met the requirements for reinstatement of the lease per Sec. 31(d) and (e) of the Mineral Leasing Act of 1920. The BLM is proposing to reinstate the leases, effective the date of termination, April 1, 2019, subject to the:

• Original terms and conditions of the lease;

• Additional and amended stipulations;

• Increased rental of $10 per acre;

• Increased royalty of 16-2/3 percent; and

• $159 cost of publishing this Notice.

Authority: 43 CFR 3108.2-3.

Julieann Serrano,
Supervisory Land Law Examiner.

[FR Doc. 2021-16754 Filed 8-4-21; 8:45 am]

BILLING CODE 4310-FB-P